DEPARTMENT OF COMMERCE

International Trade Administration

[A-570-893]

Certain Frozen Warmwater Shrimp From the People's Republic of China: Preliminary Results of Antidumping Duty Administrative Review; 2022-2023

AGENCY: Enforcement and Compliance, International Trade Administration, Department of Commerce.

SUMMARY: The U.S. Department of Commerce (Commerce) preliminarily determines that all exporters subject to this administrative review of the antidumping duty order on certain frozen warmwater shrimp (shrimp) from the People's Republic of China (China) are part of the China-wide entity because they did not demonstrate their eligibility for a separate rate. The period of review (POR) is February 1, 2022, through January 31, 2023.

DATES: Applicable September 27, 2023.

FOR FURTHER INFORMATION CONTACT: Colin Thrasher, AD/CVD Operations, Office V, Enforcement and Compliance, International Trade Administration, U.S. Department of Commerce, 1401 Constitution Avenue NW, Washington, DC 20230; telephone: (202) 482-3004.

SUPPLEMENTARY INFORMATION:

Background

On February 1, 2005, Commerce published in the Federal Register the antidumping duty order on shrimp from China.¹ On February 2, 2023, Commerce published in the Federal Register a notice of opportunity to request an administrative review of the Order.² On April 11, 2023, based on timely requests for an administrative review, Commerce initiated this administrative review with respect to 139 exporters.³ Subsequently, we released U.S. Customs and Border Protection (CBP) data to interested parties for comment.⁴ We received timely comments from the Ad Hoc Shrimp Trade Action Committee (AHSTAC).⁵

¹ See Notice of Amended Final Determination of Sales at Less Than Fair Value and Antidumping Duty Order: Certain Frozen Warmwater Shrimp from the People's Republic of China, 70 FR 5149 (February 1, 2005) (Order).

² See Antidumping or Countervailing Duty Order, Finding, or Suspended Investigation; Opportunity to Request Administrative Review and Join Annual Inquiry Service List, 88 FR 7071 (February 2, 2023).

³ See Initiation of Antidumping and Countervailing Duty Administrative Reviews, 88 FR 21609 (April 11, 2023).

⁴ See Memorandum, “Release of U.S. Customs and Border Protection Data,” dated May 10, 2023.

⁵ See AHSTAC's Letter, “Domestic Producers' Comments Regarding Respondent Selection,” dated May 17, 2023.

We did not receive a no-shipment statement, separate rate application (SRA), or separate rate certification (SRC) from any company subject to this review that had an active separate rate during the POR.⁶

⁶ We received a timely no-shipment certification from Zhanjiang Regal Integrated Marine Resources Co., Ltd. (Zhanjiang Regal). Zhanjiang Regal is excluded from the Order with respect to merchandise manufactured and exported by Zhanjiang Regal. See Certain Frozen Warmwater Shrimp from the People's Republic of China: Final Results of Administrative Review; 2011-2012, 78 FR 56209, 56210 (September 12, 2013). Zhanjiang Regal submitted a no-shipment certification for exports outside the above combination. However, because Zhanjiang Regal has not established its eligibility for a separate rate, outside of the excluded combination noted above, we preliminarily continue to consider it to be part of the China-wide entity.

Scope of the Order

The scope of the Order includes certain frozen warmwater shrimp and prawns, whether wild caught (ocean harvested) or farm raised (produced by aquaculture), head on or head off, shell on or peeled, tail on or tail off,⁷ deveined or not deveined, cooked or raw, or otherwise processed in frozen form.

⁷ “Tails” in this context means the tail fan, which includes the telson and the uropods.

The frozen warmwater shrimp and prawn products included in the scope of the Order, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild caught warmwater species include, but are not limited to, white-leg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the Order. In addition, food preparations, which are not “prepared meals,” that contain more than 20 percent by weight of shrimp or prawn are also included in the scope of the Order.

Excluded from the scope are: (1) breaded shrimp and prawns (HTSUS subheading 1605.20.1020); (2) shrimp and prawns generally classified in the Pandalidae family and commonly referred to as coldwater shrimp, in any state of processing; (3) fresh shrimp and prawns whether shell on or peeled (HTSUS subheadings 0306.23.0020 and 0306.23.0040); (4) shrimp and prawns in prepared meals (HTSUS subheading 1605.20.0510); (5) dried shrimp and prawns; (6) Lee Kum Kee's shrimp sauce; (7) canned warmwater shrimp and prawns (HTSUS subheading 1605.20.1040); and (8) certain battered shrimp. Battered shrimp is a shrimp-based product: (1) that is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (IQF) freezing immediately after application of the dusting layer. When dusted in accordance with the definition of dusting above, the battered shrimp product is also coated with a wet viscous layer containing egg and/or milk, and par-fried.

The products covered by this Order are currently classified under the following HTSUS subheadings: 0306.17.00.03, 0306.17.00.06, 0306.17.00.09, 0306.17.00.12, 0306.17.00.15, 0306.17.00.18, 0306.17.00.21, 0306.17.00.24, 0306.17.00.27, 0306.17.00.40, 1605.21.10.30, 1605.29.10.10, 0306.17.0004, 0306.17.0005, 0306.17.0007, 0306.17.0008, 0306.17.0010, 0306.17.0011, 0306.17.0013, 0306.17.0014, 0306.17.0016, 0306.17.0017, 0306.17.0019, 0306.17.0020, 0306.17.0022, 0306.17.0023, 0306.17.0025, 0306.17.0026, 0306.17.0028, 0306.17.0029, 0306.17.0041, and 0306.17.0042. These HTSUS subheadings are provided for convenience and for customs purposes only; the written description of the scope of this Order is dispositive.⁸

⁸ On April 26, 2011, Commerce amended the Order to include dusted shrimp, pursuant to the court decision in Ad Hoc Shrimp Trade Action Committee v. United States, 703 F. Supp. 2d 1330 (CIT 2010), and the U.S. International Trade Commission determination, which found the domestic like product to include dusted shrimp. See Certain Frozen Warmwater Shrimp from Brazil, India, the People's Republic of China, Thailand, and the Socialist Republic of Vietnam: Amended Antidumping Duty Orders in Accordance with Final Court Decision, 76 FR 23277 (April 26, 2011); see also Frozen Warmwater Shrimp from Brazil, China, India, Thailand, and Vietnam, Inv. Nos. 731-TA-1063, 1064, 1066-1068 (Review), USITC Pub. 4221 (March 2011).

Methodology

Commerce is conducting this review in accordance with section 751(a)(1)(B) of the Tariff Act of 1930, as amended (the Act) and 19 CFR 351.213.

Preliminary Results of Review

Because none of the 139 companies subject to this review submitted a no-shipment certification to maintain a separate rate, an SRA, or a SRC,⁹ Commerce preliminarily determines they have not demonstrated their eligibility for separate rate status. As such, Commerce preliminarily determines that these 139 companies are part of the China-wide entity.

⁹ See Appendix.

China-Wide Entity

Commerce's policy regarding conditional review of the China-wide entity applies to this administrative review.¹⁰ Under this policy, the China-wide entity will not be under review unless a party specifically requests, or Commerce self-initiates, a review of the China-wide entity.¹¹ Because no review of the China-wide entity is being conducted, the China-wide entity's entries subject to the review, and the rate applicable to the China-wide entity, is not subject to change as a result of this review. The China-wide entity rate is 112.81 percent.¹²

¹⁰ See Antidumping Proceedings: Announcement of Change in Department Practice for Respondent Selection in Antidumping Duty Proceedings and Conditional Review of the Nonmarket Economy Entity in NME Antidumping Duty Proceedings, 78 FR 65963 (November 4, 2013).

¹¹ Id.

¹² See Order, 83 FR at 512.

Public Comment

Interested parties are invited to comment on the preliminary results and may submit case briefs and/or written comments, filed electronically via Enforcement and Compliance's Antidumping Duty and Countervailing Duty Centralized Electronic Service System (ACCESS), within 30 days after the date of publication of these preliminary results of review.¹³ ACCESS is available to registered users at https://access.trade.gov. Rebuttal briefs, limited to issues raised in case briefs, may be submitted no later than seven days after the deadline date for case briefs.¹⁴ Pursuant to 19 CFR 351.309(c)(2) and (d)(2), parties who submit case briefs or rebuttal briefs in this review are encouraged to submit with each argument: (1) a statement of the issue; (2) a brief summary of the argument; and (3) a table of authorities. Note that Commerce has temporarily modified certain of its requirements for serving documents containing business proprietary information, until further notice.¹⁵

¹³ See 19 CFR 351.309(c)(1)(ii).

¹⁴ See 19 CFR 351.309; see also 19 CFR 351.303 (for general filing requirements).

¹⁵ See Temporary Rule Modifying AD/CVD Service Requirements Due to Covid-19, Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) the party's name, address, and telephone number; (2) the number of participants; and (3) a list of issues to be discussed. Oral presentations at the hearing will be limited to those issues raised in the briefs. If a request for a hearing is made, Commerce intends to hold the hearing at a date and time to be determined.¹⁶ Parties should confirm by telephone the date, time, and location of the hearing two days before the scheduled date. An electronically filed hearing request must be received successfully in its entirety by ACCESS by 5:00 p.m. Eastern Time on the established deadline.

¹⁶ See 19 CFR 351.310(d).

Assessment Rates

Upon issuance of the final results of this review, Commerce will determine, and CBP shall assess, antidumping duties on all appropriate entries covered by this review.¹⁷ We intend to instruct CBP to liquidate entries containing subject merchandise exported by the companies under review that we determine in the final results to be part of the China-wide entity at the current rate for the China-wide entity (i.e., 112.81 percent).

¹⁷ See 19 CFR 351.212(b)(1).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for shipments of the subject merchandise entered, or withdrawn from warehouse, for consumption on or after the publication date of the final results of this administrative review, as provided by section 751(a)(2)(C) of the Act: (1) for previously investigated or reviewed Chinese and non-Chinese exporters who are not under review in this segment of the proceeding but who have separate rates, the cash deposit rate will continue to be the exporter-specific rate published for the most recently completed segment of this proceeding; (2) for all Chinese exporters of subject merchandise that have not been found to be entitled to a separate rate, the cash deposit rate will be the rate for the China-wide entity (i.e., 112.81 percent); and (3) for all non-Chinese exporters of subject merchandise that have not received their own rate, the cash deposit rate will be the rate applicable to the Chinese exporter that supplied that non-Chinese exporter. These cash deposit requirements, when imposed, shall remain in effect until further notice.

Final Results of Review

Unless otherwise extended, Commerce intends to issue the final results of this administrative review, which will include the results of its analysis of issues raised in any briefs, within 120 days of publication of these preliminary results of review, pursuant to section 751(a)(3)(A) of the Act.

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

These preliminary results of administrative review are issued and published in accordance with sections 751(a)(1) and 777(i)(l) of the Act and 19 CFR 351.213(h)(1) and 19 CFR 351.221(b)(4).

Dated: September 21, 2023.
James Maeder,
Deputy Assistant Secretary for Antidumping and Countervailing Operations.

Appendix

Companies Not Eligible for a Separate Rate

1. Allied Kinpacific Food (Dalian) Co.

2. Allied Pacific Aquatic Products (Zhanjiang) Co., Ltd./Allied Pacific Food (Dalian) Co., Ltd.

3. Anhui Fuhuang Sungem Foodstuff Group Co., Ltd.

4. Asian Seafoods (Zhanjiang) Co., Ltd.

5. Beihai Anbang Seafood Co., Ltd.

6. Beihai Boston Frozen Food Co., Ltd.

7. Beihai Evergreen Aquatic Product Science and Technology Company Limited

8. Beihai Tianwei Aquatic Food Co. Ltd.

9. Changli Luquan Aquatic Products Co., Ltd.

10. Chengda Development Co Ltd.

11. Colorful Bright Trade Co., Ltd.

12. Dalian Beauty Seafood Company Ltd.

13. Dalian Changfeng Food Co., Ltd.

14. Dalian Guofu Aquatic Products and Food Co., Ltd.

15. Dalian Haiqing Food Co., Ltd.

16. Dalian Hengtai Foods Co., Ltd.

17. Dalian Home Sea International Trading Co., Ltd.

18. Dalian Philica International Trade Co., Ltd.

19. Dalian Rich Enterprise Group Co., Ltd.

20. Dalian Shanhai Seafood Co., Ltd.

21. Dalian Sunrise Foodstuffs Co., Ltd.

22. Dalian Taiyang Aquatic Products Co., Ltd.

23. Dandong Taihong Foodstuff Co., Ltd.

24. Dongwei Aquatic Products (Zhangzhou) Co., Ltd.

25. Ferrero Food

26. Fujian Chaohui Group

27. Fujian Chaowei International Trading

28. Fujian Dongshan County Shunfa Aquatic Product Co., Ltd.

29. Fujian Dongwei Food Co., Ltd.

30. Fujian Dongya Aquatic Products Co., Ltd.

31. Fujian Fuding Seagull Fishing Food Co., Ltd.

32. Fujian Haihun Aquatic Product Company

33. Fujian Hainason Trading Co., Ltd.

34. Fujian Hongao Trade Development Co.

35. Fujian R & J Group Ltd.

36. Fujian Rongjiang Import and Export Co., Ltd.

37. Fujian Zhaoan Haili Aquatic Co., Ltd.

38. Fuqing Chaohui Aquatic Food Co., Ltd.

39. Fuqing Dongwei Aquatic Products Industry Co., Ltd.

40. Fuqing Longhua Aquatic Food Co., Ltd.

41. Fuqing Minhua Trade Co., Ltd.

42. Fuqing Yihua Aquatic Food Co., Ltd.

43. Gallant Ocean Group

44. Guangdong Evergreen Aquatic Food Co., Ltd.

45. Guangdong Foodstuffs Import & Export (Group) Corporation

46. Guangdong Gourmet Aquatic Products Co., Ltd.

47. Guangdong Jinhang Foods Co., Ltd.

48. Guangdong Rainbow Aquatic Development

49. Guangdong Savvy Seafood Inc.

50. Guangdong Shunxin Marine Fishery Group Co., Ltd.

51. Guangdong Taizhou Import & Export Trade Co., Ltd.

52. Guangdong Universal Aquatic Food Co. Ltd.

53. Guangdong Wanshida Holding Corp.

54. Guangdong Wanya Foods Fty. Co., Ltd.

55. HaiLi Aquatic Product Co., Ltd

56. Hainan Brich Aquatic Products Co., Ltd.

57. Hainan Golden Spring Foods Co., Ltd.

58. Hainan Qinfu Foods Co., Ltd.

59. Hainan Xintaisheng Industry Co., Ltd.

60. Huazhou Xinhai Aquatic Products Co. Ltd.

61. Kuehne Nagel Ltd. Xiamen Branch

62. Leizhou Bei Bu Wan Sea Products Co., Ltd.

63. Longhai Gelin Foods Co., Ltd.

64. Maoming Xinzhou Seafood Co., Ltd.

65. New Continent Foods Co., Ltd.

66. Ningbo Prolar Global Co., Ltd.

67. North Seafood Group Co.

68. Pacific Andes Food Ltd.

69. Penglai Huiyang Foodstuff Co., Ltd.

70. Penglai Yuming Foodstuff Co., Ltd.

71. Qingdao Fusheng Foodstuffs Co., Ltd.

72. Qingdao Yihexing Foods Co., Ltd.

73. Qingdao Yize Food Co., Ltd.

74. Qingdao Zhongfu International

75. Qinhuangdao Gangwan Aquatic Products Co., Ltd.

76. Rizhao Meijia Aquatic Foodstuff Co., Ltd.

77. Rizhao Meijia Keyuan Foods Co. Ltd.

78. Rizhao Rongjin Aquatic

79. Rizhao Rongxing Co. Ltd.

80. Rizhao Smart Foods Company Limited

81. Rongcheng Sanyue Foodstuff Co., Ltd.

82. Rongcheng Yinhai Aquatic Product Co., Ltd.

83. Ruian Huasheng Aquatic Products

84. Rushan Chunjiangyuan Foodstuffs Co., Ltd.

85. Rushan Hengbo Aquatic Products Co., Ltd.

86. Savvy Seafood Inc.

87. Sea Trade International Inc.

88. Shanghai Finigate Integrated

89. Shanghai Zhoulian Foods Co., Ltd.

90. Shantou Freezing Aquatic Product Foodstuffs Co.

91. Shantou Haili Aquatic Product Co. Ltd.

92. Shantou Haimao Foodstuff Factory Co., Ltd.

93. Shantou Jiazhou Food Industrial Co., Ltd.

94. Shantou Jinping Oceanstar Business Co., Ltd.

95. Shantou Jintai Aquatic Product Industrial Co., Ltd.

96. Shantou Longsheng Aquatic Product Foodstuff Co., Ltd.

97. Shantou Ocean Best Seafood Corporation

98. Shantou Red Garden Food Processing Co., Ltd./Shantou Red Garden Foodstuff Co., Ltd.

99. Shantou Ruiyuan Industry Co., Ltd.

100. Shantou Wanya Foods Fty. Co., Ltd.

101. Shantou Yuexing Enterprise Company

102. Shengyuan Aquatic Food Co., Ltd.

103. Suizhong Tieshan Food Co., Ltd.

104. Thai Royal Frozen Food Zhanjiang Co., Ltd.

105. Time Seafood (Dalian) Company Limited

106. Tongwei Hainan Aquatic Products Co., Ltd.

107. Xiamen East Ocean Foods Co., Ltd.

108. Xiamen Granda Import and Export Co., Ltd.

109. Yangjiang Dawu Aquatic Products Co., Ltd.

110. Yangjiang Guolian Seafood Co., Ltd.

111. Yangjiang Haina Datong Trading Co.

112. Yantai Longda Foodstuffs Co., Ltd.

113. Yantai Tedfoods Co., Ltd.

114. Yantai Wei-Cheng Food Co., Ltd.

115. Yixing Magnolia Garment Co., Ltd.

116. Zhangzhou Donghao Seafoods Co., Ltd.

117. Zhangzhou Fuzhiyuan Food Co., Ltd.

118. Zhangzhou Hongwei Foods Co., Ltd.

119. Zhangzhou Tai Yi Import & Export Trading Co., Ltd.

120. Zhangzhou Xinhui Foods Co., Ltd.

121. Zhangzhou Xinwanya Aquatic Product Co., Ltd.

122. Zhangzhou Yanfeng Aquatic Product & Foodstuff Co., Ltd.

123. Zhanjiang Evergreen Aquatic Product Science and Technology Co., Ltd.

124. Zhanjiang Fuchang Aquatic Products Co., Ltd.

125. Zhanjiang Fuchang Aquatic Products Freezing Plant

126. Zhanjiang Go-Harvest Aquatic Products Co., Ltd.

127. Zhanjiang Guolian Aquatic Products Co., Ltd.

128. Zhanjiang Longwei Aquatic Products Industry Co., Ltd.

129. Zhanjiang Regal Integrated Marine Resources Co., Ltd.

130. Zhanjiang Universal Seafood Corp.

131. Zhaoan Yangli Aquatic Co., Ltd.

132. Zhejiang Evernew Seafood Co.

133. Zhejiang Tianhe Aquatic Products

134. Zhejiang Xinwang Foodstuffs Co., Ltd.

135. Zhenye Aquatic (Huilong) Ltd.

136. Zhoushan Genho Food Co., Ltd.

137. Zhoushan Green Food Co., Ltd.

138. Zhoushan Haizhou Aquatic Products

139. Zhuanghe Yongchun Marine Products

[FR Doc. 2023-21121 Filed 9-26-23; 8:45 am]

BILLING CODE 3510-DS-P